DEPARTMENT OF COMMERCE

National Oceanic and Atmospheric Administration

50 CFR Part 660

[Docket No. 990430113-913-01; I.D. 032700C]

Fisheries off West Coast States and in the Western Pacific; West Coast Salmon Fisheries; Inseason Adjustments From Cape Falcon to Humbug Mountain, OR

AGENCY: National Marine Fisheries Service (NMFS), National Oceanic and Atmospheric Administration (NOAA), Commerce.

ACTION: Inseason adjustments; request for comments.

SUMMARY: NMFS announces that the commercial and recreational fisheries for all salmon except coho, in the areas from Cape Falcon to Humbug Mountain, OR, will open April 1, 2000, and continue through dates to be determined in the 2000 management measures for 2000 ocean salmon fisheries in the U.S. exclusive economic zone (EEZ). This action is necessary to conform to the 1999 announcement of management measures for year 2000 salmon seasons opening earlier than May 1, 2000, and is intended to ensure conservation of chinook salmon.

DATES: Effective April 1, 2000, until the effective date of the year 2000 management measures, which will be published in the Federal Register for the west coast salmon fisheries. Comments will be accepted through April 20, 2000.

ADDRESSES: Comments on this action must be mailed to William Stelle, Jr., Regional Administrator, Northwest Region, NMFS, NOAA, 7600 Sand Point Way NE., Bldg. 1, Seattle, WA 98115-0070; or faxed to 206-526-6376; or Rodney McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: William Robinson, 206-526-6140, or Svein Fougner, 562-980-4030.

SUPPLEMENTARY INFORMATION: In the 1999 annual management measures for ocean salmon fisheries (64 FR 24078, May 5, 1999), NMFS announced that the Pacific Fishery Management Council (Council) would consider at its March 2000 meeting a recommendation to open commercial and recreational seasons for all salmon except coho in areas off Oregon. Due to the timing of the March and April Council meetings, where the major 2000 salmon seasons are developed, this action is necessary to implement the opening of these seasons prior to May 1, 2000. In the 1999 management measures for 2000 ocean salmon fisheries, NMFS announced that the recreational fishery would not open until May 1, 2000, between Cape Falcon and Humbug Mountain, OR, for all salmon except coho, unless opened following an inseason recommendation of the Council at the March 2000 meeting. In addition, the Council may also consider inseason modifications to open or modify commercial fisheries off Oregon for all salmon except coho, prior to May 1, 2000.

At the March 2000 meeting, the Council made its inseason recommendations to open the recreational and commercial fisheries, for all salmon except coho, from Cape Falcon to Humbug Mountain, OR, on April 1, 2000. The closing dates for both fisheries will be determined at the April 2000 meeting when the entire 2000 management measures for the 2000 ocean salmon fisheries are finalized.

The recreational fishery for all salmon except coho, from Cape Falcon to Humbug Mountain, OR, opens on April 1, 2000. The daily possession limit is two fish per day, with no more than six fish retained in 7 consecutive days. The minimum size limit is 20 inches (50.8 cm). Allowed gear is artificial lures and plugs of any size, or bait no less than 6 inches (15.2 cm) long (excluding hooks and swivels). All gear must have no more than two single-point, single-shank, barbless hooks. Divers are prohibited and flashers may only be used with downriggers. Oregon State regulations describe a closure at the mouth of Tillamook Bay.

The commercial fishery for all salmon except coho, from Cape Falcon to Humbug Mountain, OR, opens on April 1, 2000. No more than four spreads are allowed per line. The minimum size limit is 26 inches (66.0 cm) (19.5 in (49.5 cm) head-off). Chinook not less than 26 inches (66.0 cm) (19.5 inches (49.5 cm) head-off) taken during open seasons south of Cape Falcon may be landed north of Cape Falcon only while the season is closed north of Cape Falcon. Oregon state regulations describe a closure at the mouth of Tillamook Bay.

The Regional Administrator consulted with representatives of the Council, Washington Department of Fish and Wildlife, Oregon Department of Fish and Wildlife, and the California Department Fish and Game regarding these adjustments. As provided by the inseason notification procedures at 50 CFR 660.411, actual notice to fishermen of these actions will be given prior to 0001 hours local time, April 1, 2000, by telephone hotline number 206-526-6667 or 800-662-9825 and by U.S. Coast Guard Notice to Mariners broadcasts on Channel 16 VHF-FM and 2182 kHz.

Because of the need for immediate action, NMFS has determined that good cause exists for this document to be issued without affording a prior opportunity for public comment. This document does not apply to other fisheries that may be operating in other areas.

Classification

This action is authorized by 50 CFR 660.409 and 660.411 and is exempt from review under E.O. 12866.

Authority: 16 U.S.C. 1801 et seq.

Dated: March 31, 2000.
Bruce C. Morehead,
Acting Director, Office of Sustainable Fisheries, National Marine Fisheries Service.

[FR Doc. 00-8385 Filed 3-31-00; 3:40 pm]

BILLING CODE 3510-22-F